DEPARTMENT OF HOUSING AND URBAN DEVELOPMENT

[Docket No. FR-5486-N-06]

Notice of Proposed Information Collection for Public Comment on Evaluation of the Office of University Partnerships Programs Telephone Survey

AGENCY: Office of Policy Development and Research, HUD.

ACTION: Notice

SUMMARY: The proposed information collection requirement described below will be submitted to the Office of Management and Budget (OMB) for review, as required by the Paperwork Reduction Act. The Department is soliciting public comments on the subject proposal.

DATES: Comments Due Date: May 23, 2011.

ADDRESSES: Interested persons are invited to submit comments regarding this proposal. Comments should refer to the proposal by name and should be sent to: Reports Liaison Officer, Office of Policy Development and Research, Department of Housing and Urban Development, 451 Seventh Street, SW., Room 8230, Washington, DC 20410.

FOR FURTHER INFORMATION CONTACT: Ndeye Jackson, Department of Housing and Urban Development, Office of Policy Development and Research, 451 7th Street, SW., Room 8126, Washington DC 20401; telephone (202) 402-5737, (this is not a toll free number). Copies of the proposed data collection instruments and other available documents may be obtained from Ms. Jackson.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond, including through the use of appropriate automated collection techniques or other forms of information technology, e.g., permitting electronic submission of responses.

This notice also lists the following information:

Title of Proposal: Evaluation of the Office of University Partnerships Programs.

Description of the need for information and proposed use: The Department is conducting this evaluation under contract with Abt Associates Inc. and its subcontractors, Econometrica and ACKCO. This study is an evaluation of four grant programs funded through HUD's Office of University Partnerships (OUP). The four OUP programs are: Historically Black Colleges and Universities (HBCU); Hispanic-Serving Institutions Assisting Communities (HSIAC); Alaskan Native/Native Hawaiian Institutions Assisting Communities (ANNHIAC); and Tribal Colleges and Universities Program (TCUP). This evaluation will be the first to systematically document program outcomes and to assess where certain factors, such as partnership structure or the types of activities completed with grant funds affect outcomes. To collect the information necessary for this study, the Department will conduct two telephone surveys of staff members from a sample of OUP grant recipients that have received a grant between fiscal years 2005 and 2008. Surveys will be conducted with 67 OUP grantees. The first grantee survey will query the number of OUP grants an institution received during the study period; how the OUP grants were used; and whether the grants were interrelated. The second grantee survey will ask about: community outcomes were achieved; project beneficiaries other funding sources used in conjunction with OUP funding; and how partners worked together to implement grant activities.

Members of the affected public: The telephone surveys will affect approximately 67 institutional recipients of an OUP Program Grant.

Estimation of the total number of hours needed to prepare the information collection including number of respondents, frequency of response, and hours of response: For the OUP recipient survey, the researchers will administer a set of two interviews to 67 recipient staff. The first interview is expected to last 20 minutes; the second interview is expected to last 60 minutes for a total burden hour estimate of 90 hours.

Respondents | Number of respondents | Number responses per respondent | Average burden/response (in hours) | Total burden hours
Telephone interview | 67 | 2 | 40 | 90

Status of the proposed information collection: Pending OMB approval.

Authority: Section 3506 of the Paperwork Reduction Act of 1995, 44 U.S.C. Chapter 35, as amended.

Dated: March 14, 2011.
Raphael W. Bostic,
Assistant Secretary for Policy Development and Research.

[FR Doc. 2011-6607 Filed 3-21-11; 8:45 am]

BILLING CODE 4210-67-P